DEPARTMENT OF THE INTERIOR

National Park Service

30 Day Notice of Submission to the Office of Management and Budget (OMB); Opportunity for Public Comment

AGENCY: Department of the Interior, National Park Service.

ACTION: Notice and request for comments.

SUMMARY: Under provisions of the Paperwork Reduction Act of 1995 and 5 CFR Part 1320, Reporting and Recordkeeping Requirements, the National Park Service (NPS) invites public comments on a revision of a currently approved collection of information (OMB #1024-0037).

DATES: Public comments on this Information Collection Request (ICR) will be accepted on or before February 29, 2008.

ADDRESSES: You may submit comments directly to the Desk Officer for the Department of the Interior (OMB #1024-0037), Office of Information and Regulatory Affairs, OMB, by fax at 202/395-6566, or by electronic mail at oira_docket@omb.eop.gov. Please also send a copy of your comments to Dr. Francis P. McManamon, Manager, Archeology Program, NPS, 1849 C Street, NW., (2275), Washington, DC 20240; or via phone at 202/354-2123; or via fax at 202/371-5102.

FOR FURTHER INFORMATION CONTACT: Dr. Karen Mudar, Archeologist, Archeology Program, NPS, 1849 C Street, NW., (2275), Washington, DC 20240; or via phone at 202/354-2103; or via fax at 202/371-5102; or via e-mail at Karen_mudar@nps.gov. You are entitled to a copy of the entire ICR package free-of-charge. You may obtain this information at the Web site http://www.reginfo.gov.

Comments Received on the 60-Day Federal Register Notice: The NPS published a 60-Day Notice to solicit public comments on this ICR in the Federal Register on August 1, 2007 (Vol. 72, No. 147, FR 42108). The comment period closed on October 1, 2007. No comments on the 60-Day Notice were received.

SUPPLEMENTARY INFORMATION:

Title: Archeology Permits and Reports—43 CFR Parts 3 and 7.

Bureau Form Number: DI-1926 (permit application).

OMB Number: 1024-0037.

Expiration Date: 1/31/2008.

Type of Request: Revision of a currently approved information collection.

Description of Need: Section 4 of the Archaeological Resources Protection Act (ARPA) of 1979 (16 U.S.C. 470cc), and Section 3 of the Antiquities Act (AA) of 1906 (16 U.S.C. 432), authorize any individual or institution to apply to Federal land managing agencies to scientifically excavate or remove archeological resources from public or Indian lands. Permits for Archeological Investigations ordinarily are requested for conducting scientific research; in conjunction with statutorily required environmental clearance activities prior to commencing a Federal undertaking; or issuing a Federal license or permit for a third party activities such as energy development on public or Indian lands.

ARPA and AA require that Federal land managers issue permits to qualified applicants and place terms and conditions on the permits, including reporting requirements, as set forth in the implementing regulation for the two statutes (43 CFR Part 7 for ARPA; 43 CFR Part 3 for the AA), to ensure that the resources are scientifically excavated or removed and deposited, along with associated records, in a suitable repository for preservation. If the permit is for work on Indian lands, ARPA required that the Federal land manager place terms and conditions on the permit as requested by the Indian landowner and the Indian tribe having jurisdiction over the lands. If the permit may have an effect on a resource on public lands that has Indian tribal religious or cultural importance, ARPA requires that the Federal land manager notify the pertinent tribe for the purpose of developing terms and conditions to be placed on the permit.

Section 13 of ARPA (16 U.S.C. 470II) requires that the Secretary of the Interior report to Congress on archeological activities conducted pursuant to the Act. To fulfill this requirement, the Secretary must collect information about permitted activities from the various land managing agencies and the Department's land managing bureaus.

Information collected responds to statutory requirements that Federal agencies (1) issue permits to qualified individuals and institutions desiring to excavate or remove archeological resources from public or Indian lands and (2) specify terms and conditions, including reporting requirements, in permits. The information collected is reported to Congress and is issued for land management purposes. The obligation to respond is required to obtain a benefit.

Automated data collection: This information will be collected via a paper form. No automated data collection will take place.

Frequency of Collection: Once at the beginning of each archeological project for which a permit is required. An interim and/or final report is required at the end of the archeological project.

Description of Respondents: Businesses, scholarly institutions, and tribes wishing to excavate or remove archeological resources from public or Indian lands.

Estimated average number of respondents: 1,600.

Estimated average number of responses: 3,200.

Estimated average burden hours per respondent: 3 hours. 2.5 hours to complete the application form; 30 minutes to complete the investigative report.

Frequency of Response: On occasion for applications; upon completion of project for report.

Estimated total annual reporting burden: 4,800 hours.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask OMB in your comments to withhold your personal identifying information from public review, we cannot guarantee that OMB will be able to do so.

Dated: January 25, 2008.
Leonard E. Stowe,
Information Collection Clearance Officer, NPS.

[FR Doc. 08-406 Filed 1-29-08; 8:45 am]

BILLING CODE 4310-70-M